FEDERAL COMMUNICATIONS COMMISSION

47 CFR Part 73

[MB Docket No. 25-215; RM-12005; DA 25-855; FR ID 313827]

Television Broadcasting Services Jacksonville, Oregon

AGENCY: Federal Communications Commission.

ACTION: Final rule.

SUMMARY: In this document, the Federal Communications Commission's Media Bureau substitutes channel * 24 for channel * 4 at Jacksonville, Oregon in the Table of TV Allotments (table) in response to a Petition for Rulemaking filed by theDove Media, Inc. (TDM or Petitioner), the permittee of a new NCE television station to serve Jacksonville, Oregon (Jacksonville), with Facility ID No. 791569 (Station). The staff engineering analysis finds that the proposal is in compliance with the Commission's principal community coverage and technical requirements. The substitution of channel * 24 for channel * 4 in the table will allow TDM to construct its new facility on a UHF channel and avoid the known viewer reception issues on its currently authorized VHF channel.

DATES: Effective September 23, 2025.

FOR FURTHER INFORMATION CONTACT: Emily Harrison, Media Bureau, at Emily.Harrison@fcc.gov, (202) 418-1665, or Mark Colombo, Media Bureau, at Mark.Colombo@fcc.gov, (202) 418-7611.

SUPPLEMENTARY INFORMATION: This is a synopsis of the Commission's Report and Order, MB Docket No. 25-215; RM-12005; DA 25-855, adopted and released on September 16, 2025. The proposed rule was published at 90 FR 33911 on July 18, 2025. The full text of this document is available online at https://docs.fcc.gov/public/attachments/DA-25-855A1.pdf.

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

It is further ordered that, within 10 days of the effective date of this Report and Order, the Dove Media, Inc. shall submit to the Commission a minor change application for a construction permit (Form 2100, Schedule A) specifying channel * 24. 8.

It is further ordered that, pursuant to section 801(a)(1)(A) of the Congressional Review Act, 5 U.S.C. 801(a)(1)(A), the Commission shall send a copy of the Report and Order to Congress and to the Government Accountability Office.

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622, in the table in paragraph (j), under Oregon, revise the entry of “Jacksonville” to read as follows:

§ 73.622 Digital television table of allotments.

* * * * *

(j) * * *

Community | Channel No.
* * * * *
Oregon
* * * * *
Jacksonville | * 24
* * * * *

* * * * *

[FR Doc. 2025-18376 Filed 9-22-25; 8:45 am]

BILLING CODE 6712-01-P